ENVIRONMENTAL PROTECTION AGENCY

[FRL-7112-7]

Announcement of a Federal Operating Permits Program Consistent With 40 CFR Part 71; Maryland; Delegation of the Title V Permitting Program

AGENCY: Environmental Protection Agency (EPA).

ACTION: Informational notice.

SUMMARY: The purpose of this notice is to announce that on December 1, 2001, a Federal operating permits program consistent with the requirements of the Clean Air Act (the Act) and the applicable Federal regulations will be effective in the State of Maryland. Furthermore, effective December 1, 2001, EPA is granting the Maryland Department of the Environment's (MDE's) request for full delegation of authority to implement and enforce the Act's Federal operating permits program. Under this delegation, EPA retains its authority to object to the issuance of any permit, act upon petitions submitted by the public, and collect fees from all owners or operators of sources subject to the permitting program if it is demonstrated that MDE is not adequately implementing the program in accordance with the Delegation of Authority Agreement, the applicable Federal regulations, and/or the Act. The procedures for full delegation are specified in a Delegation of Authority Agreement between EPA Region III and MDE signed and dated on November 27, 2001.

EFFECTIVE DATES: The Federal operating permits program, 40 CFR part 71, will be effective in the State of Maryland on December 1, 2001. The effective date for the Delegation of Authority Agreement between EPA and MDE is December 1, 2001.

ADDRESSES: Copies of the letter that requests delegation of the federal operating permits program and the Delegation of Authority Agreement between EPA and MDE are available for public inspection at EPA's Region III Office, 1650 Arch Street, Philadelphia, PA 19103 and MDE, 2500 Broening Highway, Baltimore, MD 21224. Effective December 1, 2001, all notifications, requests, applications, reports and other correspondence required under 40 CFR part 71 for all Part 71 sources, shall be submitted to MDE's Air Quality Permits Program at the following address:

MDE Office—Air Quality Permits Program, Air and Radiation Management, Maryland Department of the Environment, 2500 Broening Highway, Baltimore, MD 21224. Attn: Permits Program Chief.

All reports, notifications, requests, petitions pursuant to the Federal permitting program, 40 CFR part 71, and the Delegation of Authority Agreement from all part 71 sources or the public should be submitted to EPA at the following address:

EPA Office: Permit and Technical Assessment Branch (3AP11), Air Protection Division, EPA Region III, 1650 Arch Street, Philadelphia, PA 19103. Attn: Chief, Permit and Technical Assessment Branch.

FOR FURTHER INFORMATION CONTACT: Helene Drago, Permit and Technical Assessment Section (3AP11), Air Protection Division, EPA Region III, 1650 Arch Street, Philadelphia, PA 19103, Telephone: 215-814-5796, email: drago.helene@epa.gov.

SUPPLEMENTARY INFORMATION: The purpose of this notice is to announce that on December 1, 2001, the Federal operating permits program consistent with the requirements of Title V of the Clean Air Act (the Act) as set forth under 40 CFR part 71 (part 71 program) will be effective in the State of Maryland. Furthermore, effective December 1, 2001, EPA is granting the Maryland Department of the Environment's (MDE's) request for full delegation of authority to implement and enforce the part 71 Federal operating permits program. Under this delegation, EPA retains its authority to (1) object to the issuance of any part 71 permit, (2) act upon petitions submitted by the public, and (3) collect fees from all owners or operators of sources subject to 40 CFR part 71 if it is demonstrated that MDE is not adequately implementing the part 71 program in accordance with the Delegation of Authority Agreement, 40 CFR part 71, and/or the Act. The procedures for full delegation are specified in a Delegation of Authority Agreement between EPA Region III and MDE signed and dated on November 27, 2001.

On October 30, 1995 (60 FR 55231), the EPA published a proposed rule to grant interim approval of Maryland's operating permits program, submitted to EPA pursuant to Title V of the Act and 40 CFR part 70 (part 70 program). On July 3, 1996 (61 FR 34733), EPA published a final rule granting interim approval of Maryland's part 70 operating permits program. Please see these proposed and final rules for a full explanation of the reasons why Maryland did not receive full approval of its part 70 program. Under the Act, Maryland had two years after receiving interim approval in which to correct the identified deficiencies of its part 70 program. In recognition of States' efforts to implement the Title V permitting program and EPA's own efforts to revise its implementing regulations, EPA granted several extensions to the interim approval period. A lawsuit was filed against EPA on June 21, 2000 by the EarthJustice Legal Defense Fund on behalf of the Sierra Club and the New York Public Interest Research Group, regarding these extensions. In settlement of that litigation, EPA entered into a settlement agreement which provides that no further extensions of the interim approval period will be granted for any part 70 operating permit programs, including the State of Maryland's, beyond December 1, 2001. MDE will not be able to address all interim approval deficiencies by December 1, 2001. In particular, Maryland will not have enacted legislation to provide, unambiguously, standing for judicial review of its permits consistent with section 502(b)(6) of the Act and 40 CFR 70.4(b)(3)(x) and which meets the minimum threshold requirements of Article III of the U.S. Constitution for organizations and individuals. Therefore, on December 1, 2001, Maryland will lose its interim approval status of its part 70 permitting program. Pursuant to the Act, Maryland will be required to implement a part 71 Federal operating permit program effective December 1, 2001.

The Act and its implementing regulations under the part 71 authorize EPA to delegate authority to any state agency that submits adequate regulatory procedures for implementation and enforcement of the part 71 operating permits program. On September 24, 2001, MDE requested full delegation of authority to implement and enforce the federal operating permits program consistent with the requirements of Title V of the Act and part 71. MDE provided all necessary documentation that the State of Maryland has adequate authority and adequate resources to implement and enforce the part 71 Federal permitting program.

Pursuant to 40 CFR 71.10(b), EPA hereby notifies the public that effective December 1, 2001, it has granted MDE's request and is fully delegating the authority to implement and enforce the Federal operating permits program as set forth under 40 CFR part 71. Under this delegation, MDE has authority to implement and enforce the Federal operating permits program consistent with the requirements of Title V as set forth under the part 71 program. As previously stated, EPA retains its authority to (1) object to the issuance of any part 71 permit, (2) act upon petitions submitted by the public and (3) collect fees from all owners or operators of part 71 sources if it is demonstrated that MDE is not adequately implementing the part 71 program in accordance with the Delegation of Authority Agreement, part 71, and/or the Act. The full delegation is set forth in a Delegation of Authority Agreement between EPA Region III and MDE signed and dated on November 27, 2001. If, at any time, EPA determines that MDE is not or cannot adequately implement or enforce the requirements of part 71, this delegation may be revoked, in whole or in part, pursuant to 40 CFR 71.10(c).

Dated: November 27, 2001.
Donald S. Welsh,
Regional Administrator, Region III.

[FR Doc. 01-30101 Filed 12-4-01; 8:45 am]

BILLING CODE 6560-50-P